DEPARTMENT OF DEFENSE

Department of the Air Force

[Docket ID: USAF-2020-HQ-0004]

Proposed Collection; Comment Request

AGENCY: Department of the Air Force, DoD.

ACTION: Information collection notice.

SUMMARY: In compliance with the Paperwork Reduction Act of 1995, the Department of the Air Force announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 30, 2020.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please contact Ms. Angela James, Office of Information Management, Department of Defense, at 571-372-7574, or whs.mc-alex.esd.mbx.dd-dod-information-collections@mail.mil.

SUPPLEMENTARY INFORMATION:

Title; associated form; and OMB number: Automated Civil Engineer System (ACES) Electronic Records; OMB Control Number 0701-ACES.

Needs and uses: Information is required for five categories of respondents (ACES Unit Account Manager, ACES User, Civil Engineer (CE) Personnel supporting facility maintenance, warfighters, and Facility Managers). For ACES Unit Account Managers, PII data is required to establish roles for individuals to manage their unit's accounts. For ACES Users, PII data is required to establish accounts. For CE Personnel, PII data is required to identify CE Personnel for assignments to cost centers for the purpose of work order labor reporting and the calculations of shop rates. For warfighters, PII data is critical to ensure all warfighters are prepared for deployment. ACES is the authoritative source for Chemical, Biological, Radiological, Nuclear (CBRN) and Combat Arms training. For Facilities Managers, PII data is required for work orders and after hour emergencies.

Affected public: Individuals or Households.

Annual burden hours:

Electronic Form (eForm): 25.86 hours.

Face-to-Face Interview: 122.23 hours.

Total Burden Hours: 148.09 hours.

Number of respondents:

eForm: 862.

Face-to-Face Interview: 719.

Total Number of Respondents: 1,581.

Responses per respondent:

eForm: 1.

Face-to-Face Interview: 1.

Annual responses:

eForm: 862.

Face-to-Face Interview: 719.

Total Annual Responses: 1,581.

Average burden per response:

eForm: 0.03 hours.

Face-to-Form: 0.17 hours.

Frequency: On occasion.

Dated: April 28, 2020.
Morgan E. Park,
Alternate OSD Federal Register Liaison Officer, Department of Defense.

[FR Doc. 2020-09269 Filed 4-30-20; 8:45 am]

BILLING CODE 5001-06-P